DEPARTMENT OF JUSTICE

[OMB Number 1110-0NEW]

Agency Information Collection Activities; Proposed eCollection eComments Requested; New Collection; Under Attack: Assaults on Our Nation's Law Enforcement

AGENCY: Federal Bureau of Investigation, Department of Justice.

ACTION: 60-Day notice.

SUMMARY: The Federal Bureau of Investigation (FBI), Criminal Justice Information Services Division, Department of Justice (DOJ) will be submitting the following information collection request to the Office of Management and Budget (OMB) for review and approval in accordance with the Paperwork Reduction Act of 1995.

DATES: Comments are encouraged and will be accepted for 60 days until January 26, 2024

FOR FURTHER INFORMATION CONTACT: If you have additional comments especially on the estimated public burden or associated response time, suggestions, or need a copy of the proposed information collection instrument with instructions or additional information, please contact Kevin Harris/FBI CJIS, 1000 Custer Hollow Road, Clarksburg, WV 26306, (304) 625-2000, OSAT@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Serious assaults on law enforcement in the United States are a growing problem, with both assaults with injury and felonious killings of law enforcement officers trending upward (FBI, 2022). While the Law Enforcement Officers Killed and Assaulted (LEOKA) data collection answers many questions related to these assaults and deaths, such as the who, what, when, where, and how, the data does not answer why these assaults are happening. Without knowing and understanding why these assaults are happening, we cannot begin to prevent them. Outside of the previous studies conducted by the FBI, there is a lack of research into this question of why offenders assault police officers. In particular, there is a lack of research that looks at both the officer and the offender in such incidents, and how the relationship between the two impacts the assault.

The purposes of this qualitative study are to examine the possibility of predicting assaults on officers and to use this information to prevent future assaults. To date, very few studies outside of the FBI's Officer Safety Awareness Training (OSAT) research projects, have looked at these assaults from the perspectives of both the officer and the offender. By interviewing officers and offenders, this study seeks to gain a more thorough understanding of why these incidents take place, and the context surrounding them. Based on the recent trends and the modicum of previous research, it is expected the current study would make a large contribution to what is currently known about these attacks, and would play a substantial role in the preparedness, prevention, and mitigation of these incidents by informing those who develop training and operational practices.

This mixed method research effort will use the Perpetrator-Motive Research Design (PMRD). PMRD is a 12-step methodological design that focuses on gaining a thorough understanding of the motivations of offenders. Interviewing incarcerated offenders allows for increased accessibility, increased sample size, interviewer security, and avoidance of ethical or potential legal entanglements which interviewers might be exposed to while questioning offenders still at large or whose cases have not yet exhausted the criminal legal process. Because PMRD is suited to identify and understand offender motives, the findings can be used in the development of training interventions for law enforcement officials which could improve officer safety. As part of the study, researchers will also seek to examine the incident reports associated with the assaults and the FBI criminal history record information of offenders. Researchers will also seek to obtain, examine, and use any body-worn camera or dashboard camera recordings associated with the assaults for research and training purposes.

Overview of This Information Collection

1. Type of Information Collection: New Collection.

2. The Title of the Form/Collection: Under Attack: Assaults on Our Nation's Law Enforcement.

3. The agency form number, if any, and the applicable component of the Department sponsoring the collection: There is no form number. The forms are titled “Officer Protocol Questionnaire” and “Offender Protocol Questionnaire”/FBI CJIS Division.

4. Affected public who will be asked or required to respond, as well as the obligation to respond: State, local, and tribal governments. The obligation to respond is voluntary.

5. An estimate of the total number of respondents and the amount of time estimated for an average respondent to respond: A total of 120 respondents. The time per response will be 2 hours per survey. Each participant will fill out either the officer form or the offender form. One questionnaire per respondent. The estimated response time will be 2 hours per respondent.

6. An estimate of the total annual burden (in hours) associated with the collection: This is not an annual collection. This is a one-time study.

7. An estimate of the total annual cost burden associated with the collection, if applicable: $0.

Total Burden Hours
Activity | Number of respondents | Frequency | Total annual responses | Time per response (hours) | Total annual burden (hours)
Officer Protocol Questionnaire | 60 | 1 per respondent | 60 | 2 | 120
Offender Protocol Questionnaire | 60 | 1 per respondent | 60 | 2 | 120
Unduplicated Totals | 120 | 1 per respondent | 120 |  | 240

If additional information is required contact: Darwin Arceo, Department Clearance Officer, United States Department of Justice, Justice Management Division, Policy and Planning Staff, Two Constitution Square, 145 N Street NE, 4W-218, Washington, DC.

Dated: November 21, 2023.
Darwin Arceo,
Department Clearance Officer for PRA, U.S. Department of Justice.

[FR Doc. 2023-26091 Filed 11-24-23; 8:45 am]

BILLING CODE 4410-02-P